DEPARTMENT OF AGRICULTURE

Forest Service

Information Collection; Request for Comment; Recreation Fee Administration

AGENCY: Forest Service, USDA.

ACTION: Notice.

SUMMARY: In accordance with the Paperwork Reduction Act of 1995, the Forest Service is seeking comments from all interested individuals and organizations on the extension with revision of information collection for the administration of recreation fees on National Forest System lands. The information provides for consistent collection of fees for use of government facilities and services. Respondents will include individuals.

DATES: Comments must be received in writing on or before May 2, 2006 to be assured of consideration. Comments received after that date will be considered to the extent practicable.

ADDRESSES: Comments concerning this notice should be addressed to Jennifer Eberlien, Recreation Staff, Mailstop 1125, USDA, Forest Service 1400 Independence Avenue, SW., Washington, DC 20250-1125.

Comments also may be submitted via facsimile to Jennifer Eberlien (202) 205-1145 or by e-mail to: recreation2300@fs.fed.us. If comments are sent by e-mail or facsimile, the public is requested not to send duplicate comments via mail. Please confine comments to issues pertinent to the proposed extension with revisions of the currently approved information collection, explain the reasons for any recommended changes, and where possible, reference the specific item being addressed.

The public may inspect comments received in the Office of the Director, Recreation and Heritage Staff, 4th Floor South, Sidney R. Yates Federal Building, 14th and Independence Avenue, SW., Washington, DC 20024 on business days between the hours of 8:30 a.m. and 4 p.m. Visitors are encouraged to call ahead to (202) 205-1169 to facilitate entry to the building.

FOR FURTHER INFORMATION CONTACT: Jennifer Eberlien, Recreation and Heritage Staff, at (202) 205-1169. Individuals who use telecommunication devices for the deaf (TDD) may call the Federal Relay Service (FRS) at 1-800-877-8339, 24 hours a day, every day of the year, including holidays.

SUPPLEMENTARY INFORMATION: Title: Recreation Fee Administration.

OMB Number: 0596-0106.

Expiration Date of Approval: July 1, 2006.

Type of Request: Extension with Revision.

Abstract: The Federal Lands Recreation and Enhancement Act (16 U.S.C. 6801-6814) authorizes the Forest Service to collect recreation fees for use of government facilities and services.

Two categories of information are collected through two forms. The first, FS-2300-26, Recreation Fee Envelope, is a form used to document when visitors pay a required recreation fee. The second, FS-2300-43, The Rules of Occupancy for Short-term, Non-Commercial Use of Government Facilities, is used to schedule requests for use and occupancy of government owned facilities. Previously designated as FS-2700-3e under 0596-0082, the Forest Service proposes to redesignate this form under 0596-0106 as FS-2300-43.

Currently, the information collected for FS-2300-26 includes a visitor's vehicle license number and registered state, Golden Passport Number (if applicable), number of days paid, and dollar amount enclosed. The Forest Service is not proposing to change this information. This information is used to ensure that visitors have paid a required recreation fee.

Currently, the information collected for FS-2300-43 includes a renter's contact information such as name, address, and phone number. The information will be collected when the visitor is paying the recreation fee or when a person is applying for rental of a government owned facility. The Forest Service is proposing to change only the number of the form.

The information will be collected by Federal employees and agents who are authorized to collect the recreation fees or rent government facilities. A national forest may use zip codes to help determine where the national forest's visitor base originates. Personal information such as names, addresses, and vehicle registration will not be maintained. Collecting this information is important to ensure that the national forests are able to evaluate whether a visitor has paid a required recreation fee and to rent a government owned facility.

If unable to collect this information, national forests would not be able to verify who has paid a recreation fee. National forests would not be able to schedule and rent government-owned facilities to the public successfully.

Estimate of Annual Burden: (1) FS-2300-26 estimated 3 minutes; (2) FS-2300-43 estimated 15 minutes.

Type of Respondents: Individuals.

Estimated Annual Number of Respondents: FS-2300-26 estimated 2 million. FS-2300-43 estimated 10,000.

Estimated Annual Number of Responses per Respondent: FS-2300-26—1; FS-2300-43—1

Estimated Total Annual Burden on Respondents: FS-2300-26—1,666 hours; FS-2300-43—42 hours.

Comment is invited on: (1) Whether this collection of information is necessary for the stated purposes and the proper performance of the functions of the agency, including whether the information will have practical or scientific utility; (2) the accuracy of the agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the request for Office of Management and Budget approval.

Dated: February 27, 2006.
Gloria Manning,
Associate Deputy Chief, NFS.

[FR Doc. E6-3078 Filed 3-2-06; 8:45 am]

BILLING CODE 3410-11-P